DEPARTMENT OF TRANSPORTATION

Pipeline and Hazardous Materials Safety Administration

Hazardous Materials: Notice of Applications for Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before May 23, 2018.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue SE, Washington, DC 20590-0001, (202) 366-4535.

SUPPLEMENTARY INFORMATION: Copies of the applications are available for inspection in the Records Center, East Building, PHH-30, 1200 New Jersey Avenue SE, Washington, DC or at http://regulations.gov.

This notice of receipt of applications for special permit is published in accordance with part 107 of the Federal hazardous materials transportation law (49 U.S.C. 5117(b); 49 CFR 1.53(b)).

Issued in Washington, DC, on April 4, 2018.
Donald Burger,
Chief, General Approvals and Permits Branch.

Application No. | Applicant | Regulation(s) affected | Nature of the special permits thereof
SPECIAL PERMITS DATA—Granted
7607-M | THERMO FISHER SCIENTIFIC INC | 172.101(j), 173.306 | To modify the special permit to authorize new part numbers and improvements to the cylinders authorized in the permit.
11352-M | PEPSICO PUERTO RICO, INC | 172.200, 172.300, 172.400, 172.500 | To modify the special permit to authorize an additional 6.1 material.
11536-M | BOEING CO | 173.24(g), 173.302(a), 173.304(a), 173.62, 173.185(a), 173.185(b), 173.202, 173.211, 172.101(j), 172.102(c) | To modify the special permit to authorize explosives outside the spacecraft.
14424-M | CHART, INC | 172.301(c), 177.834(h) | To modify the special permit to authorize an additional 2.2 material.
14467-M | BRENNER TANK LLC | 178.345-2, 178.346-2, 178.347-2, 178.348-2 | To modify the special permit to reflect the 2015 Edition of the ASME Code.
15509-M | VIRGINIA COMMERCIAL SPACE FLIGHT AUTHORITY | 173.301, 173.302a | To modify the special permit to authorize the transportation in commerce of additional hazmat in non-DOT specification cylinders.
15713-M | BULK TANK INTERNATIONAL, S. DE R.L. DE C.V | 178.345-2, 178.346-2, 178.347-2, 178.348-2 | To modify the special permit to authorize Series 400 tanks to be constructed from materials conforming to ASME Code except for design stress margins shall be 4:1.
16163-M | THE DOW CHEMICAL COMPANY | 172.203(a), 172.302(c), 180.605(h), 180.605(h)(3) | To modify the special permit to authorize an additional Division 4.2 material and to authorize pneumatic pressure testing on the authorized tanks.
16598-M | SPACEFLIGHT, INC | 173.185(e)(1), 173.185(e)(2) | To modify the special permit to authorize different packaging and to remove the one-time transportation limit.
20297-M | CODYSALES, INC | 173.302a(b), 172.203(a), 172.301(c), 180.205 | To authorize the addition of Class 5.1 hazmat, to modify testing requirement for cylinders made of 6351 aluminum alloy, to clarify language in paragraph 7.
20421-M | THE PROCTER & GAMBLE COMPANY | 172.400, 172.500, 172.200, 172.300, 174.1, 177.800, 173.304a(a) | To authorize the transportation in commerce of plastic receptacles charged with liquefied gases, or a mixture of a liquefied and compressed gas, and which are exempted from marking, labeling, and shipping papers when shipped by motor vehicle or rail freight.
20503-M | DYNO NOBEL INC | 177.835(a), 177.835(c)(3), 177.848(e)(2), 177.848(g)(3) | To modify the special permit to authorize additional packing groups for already authorized hazmat.
20524-N | Wilhelm Schmidt GmbH | 172.102(c)(4), 178.705(c)(2)(ii) | To authorize the manufacture, mark, sale, and use of IBCs intended to contain ammonia solutions and dichloromethane.
20546-N | DEPARTMENT OF DEFENSE (MILITARY SURFACE DEPLOYMENT & DISTRIBUTION COMMAND) | 173.159(d) | To authorize the transportation in commerce of batteries in metal drums or boxes as strong outer packagings.
20591-N | RAYTHEON MISSILE SYSTEMS CO | 173.301(f), 173.302(a) | To authorize the manufacture, mark, sale and use of non-DOT specification stainless steel cylinders conforming with all the regulations applicable to a DOT 3A specification cylinder except as specified herein, for the transportation of hazardous materials in commerce.
20593-N | TRANSPORT LOGISTICS INTERNATIONAL, INC | 173.420(a)(5) | To authorize the one-time, one-way transportation in commerce of cylinders filled in excess of the authorized filling limits.
20594-N | The Sherwin-Williams Manufacturing Company | 172.400, 172.500, 172.200, 172.300 | To authorize the transportation in commerce of certain hazardous materials without being subject to certain shipping paper, marking, labeling and placarding requirements.
20603-N | FIBA TECHNOLOGIES, INC | 173.301(f) | To authorize the manufacture, mark, sale and use of cylinders with pressure relief devices meeting the Fourteenth Edition of CGA S-1.1.
20606-N | SPACEFLIGHT, INC | 173.185(e) | To authorize the transportation in commerce of lithium batteries contained in a spacecraft which have not been tested by UN 38.3 standards.
20610-N | DEPARTMENT OF DEFENSE (MILITARY SURFACE DEPLOYMENT & DISTRIBUTION COMMAND) | 171.25(b)(1), 173.59, 177.835(g), 177.848(f), 177.848(g) | To authorize the transportation in commerce of certain fuzes assigned Compatibility Groups (CG) S and D, on the same motor vehicle with certain Division 1.1, 1.2, 1.3, 1.4, or 1.5 materials.
20617-N | HILLWOOD AIRWAYS, LLC | 172.101(j), 173.27(b)(2), 175.30(a)(1) | To authorize the transportation in commerce of certain explosives that are forbidden aboard cargo aircraft only.
20627-N | GATEWAY PYROTECHNIC PRODUCTIONS, LLC | 172.400, 172.300, 172.301(c), 173.54, 173.56 | To authorize the one-time, one-way transportation of unappproved fireworks from Louisville, KY to storage in Illiopolis, IL.
SPECIAL PERMITS DATA—Denied
15634-M | SODASTREAM USA, INC | 171.2(k), 172.202(a)(5)(iii)(B) | To modify the special permit to authorize a larger discharge cylinder.
20492-N | EXAL CORPORATION | 178.33-7(a), 178.33a-7(a) | To provide an exemption for aerosol cans rated at 2P and 2Q pressure resistance. Exemption to the minimum wall thickness specified for DOT 2P and DOT 2Q containers down to 0.005″ minimum.
SPECIAL PERMITS DATA—Withdrawn
16490-M | DEMEX INTERNATIONAL, INC | 176.83, 176.63, 176.116(e), 176.137(a)(7), 176.120, 176.138(b), 176.144(e) | To modify the special permit to authorize the maximum quantity of explosives on a vessel to exceed the port maximum.
20513-N | ROLLING PAPER DEPOT, LLC | 173.308 | To authorize the transportation in commerce of lighters by motor vehicle.
20613-N | AVIAKOMPANIYa UKRAINA-AEROALYANS, PrAT | 172.101(j), 172.203(a), 172.301(c), 173.27(b)(2), 175.30(a)(1) | To authorize the transportation in commerce of explosives which are forbidden for air transport by cargo only aircraft.
20614-N | USDA APHIS Veterinary Services | 172.101(i)(3) | To authorize the transportation of depopulated livestock and/or poultry for treatment and disposal.

[FR Doc. 2018-08375 Filed 4-20-18; 8:45 am]

BILLING CODE 4901-60-P